DEPARTMENT OF THE INTERIOR

National Park Service

[DOI-2021-0015; PPWONRADE4, PEN00EN15.YP0000]

Privacy Act of 1974; System of Records

AGENCY: National Park Service, Interior.

ACTION: Notice of a modified system of records.

SUMMARY: Pursuant to the provisions of the Privacy Act of 1974, as amended, the Department of the Interior (DOI) is issuing a public notice of its intent to modify the National Park Service (NPS) Privacy Act system of records, INTERIOR/NPS-23, Planning, Environment and Public Comment (PEPC) System. DOI is updating this system of records notice (SORN) to update the system location, system manager, categories of records, records source, records retrieval, records retention and disposal, and safeguards; propose new and modified routine uses; and provide general updates to remaining sections to accurately reflect management of the system of records. This modified system will be included in the DOI's inventory of record systems.

DATES: This modified system will be effective upon publication. New or modified routine uses will be effective March 7, 2022. Submit comments on or before March 7, 2022.

ADDRESSES: You may send comments identified by docket number [DOI-2021-0015] by any of the following methods:

• Federal eRulemaking Portal: http://www.regulations.gov. Follow the instructions for sending comments.

• Email: DOI_Privacy@ios.doi.gov. Include docket number [DOI-2021-0015] in the subject line of the message.

• U.S. mail or hand delivery: Teri Barnett, Departmental Privacy Officer, U.S. Department of the Interior, 1849 C Street NW, Room 7112, Washington, DC 20240.

• Instructions: All submissions received must include the agency name and docket number [DOI-2021-0015]. All comments received will be posted without change to http://www.regulations.gov, including any personal information provided.

Docket: For access to the docket to read background documents or comments received, go to http://www.regulations.gov.

FOR FURTHER INFORMATION CONTACT: Felix Uribe, Associate Privacy Officer, National Park Service, 12201 Sunrise Valley Drive, Reston, VA 20192, nps_privacy@nps.gov or (202) 354-6925.

SUPPLEMENTARY INFORMATION:

I. Background

The NPS maintains the NPS-23, Planning, Environment and Public Comment (PEPC) System, system of records. The PEPC System is an online collaborative tool designed to facilitate the project management process in conservation planning and environmental impact analysis that is managed by the Natural Resource Stewardship and Science Directorate. The system assists the NPS in making informed decisions regarding a number of compliance issues throughout the planning, design, and construction process.

DOI is publishing this revised notice to reflect updates to the system location, system manager, categories of records, records source, records retrieval, records retention and disposal, and safeguards; include new sections for security classification, purpose and history of the system of records; and make general updates to the remaining sections to accurately reflect management of the system of records in accordance with the Office of Management and Budget (OMB) Circular A-108, Federal Agency Responsibilities for Review, Reporting, and Publication under the Privacy Act. DOI is proposing to modify existing routine uses and add new routine uses to provide clarity, transparency, and to facilitate sharing of information with agencies and organizations to promote the integrity of the records in the system or carry out a statutory responsibility of the DOI or Federal Government.

Routine use A was slightly modified to further clarify disclosures to the Department of Justice (DOJ) or other Federal agencies, when necessary, in relation to litigation or judicial hearings. Routine use B was modified to clarify disclosures to a congressional office to respond to or resolve an individual's request made to that office. Routine use H was modified to clarify sharing of information with government agencies and organizations in response to court orders or for discovery purposes related to litigation. Routine use I was modified to include grantees to facilitate sharing of information when authorized and necessary to perform services on DOI's behalf. Modified routine use J allows DOI to share information with appropriate Federal agencies or entities when reasonably necessary to respond to a breach of PII and to prevent, minimize, or remedy the risk of harm to individuals or the Federal Government, or assist an agency in locating individuals affected by a breach in accordance with OMB Memorandum M-17-12, Preparing for and Responding to a Breach of Personally Identifiable Information. Routine use N was modified to include review by public affairs, legal counsel, and the Senior Agency Official for Privacy and clarify circumstances where there is a legitimate public interest in the disclosure of information that would not constitute an unwarranted invasion of privacy.

Proposed new routine use C facilitates sharing of information with the Executive Office of the President to resolve issues concerning individuals' records. Proposed routine use P allows sharing with members of the public in order to provide copies or summaries of comments received on a project, and to provide information to the public as a report or verification of all correspondence received for a project, or as part of the process of reporting the public's concerns on a project and the NPS's response to those concerns.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particulars assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/NPS-23, Planning, Environment and Public Comment (PEPC) System, SORN is published in its entirety below. In accordance with 5 U.S.C. 552a(r), DOI has provided a report of this system of records to OMB and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/NPS-23, Planning, Environment and Public Comment (PEPC) System.

SECURITY CLASSIFICATION:

Unclassified.

SYSTEM LOCATION:

This system is located at the National Information Technology Center, National Park Service, 12201 Sunrise Valley Drive, Reston, VA 20192. Records may also be located at NPS regional and field offices responsible for projects related to conservation planning and environmental impact analysis. A current listing of park offices and contact information may be obtained by visiting the NPS website at https://www.nps.gov/aboutus/contactinformation.htm.

SYSTEM MANAGER(S):

Chief, Environmental Information Management Branch, Environmental Quality Division, Natural Resource Stewardship and Science, National Park Service, P.O. Box 25287, Denver, CO 80225-0287.

AUTHORITY FOR MAINTENANCE OF THE SYSTEM:

42 U.S.C. 4321 et seq., The National Environmental Policy Act of 1969, as amended; and 43 CFR part 46, Implementation of the National Environmental Policy Act of 1969.

PURPOSE(S) OF THE SYSTEM:

The PEPC System is a collaborative online tool designed to: (1) Facilitate the project management process in conservation planning and environmental impact analysis; (2) assist NPS employees in making informed decisions regarding pertinent compliance issues throughout the planning, design, and construction process; (3) provide consistency in applying applicable policies, laws and regulations; and (4) provide a platform for public comment opportunities for environmental impact analysis and other documents that require public input.

CATEGORIES OF INDIVIDUALS COVERED BY THE SYSTEM:

Individuals covered by the system include DOI employees, contractors and volunteers; other Federal, state or local government agency employees, contractors and volunteers; partners of NPS that are involved in the projects; members of the public providing and seeking comments on the projects; and other individuals involved with projects related to conservation planning and environmental impact analysis.

CATEGORIES OF RECORDS IN THE SYSTEM:

The system contains documents necessary to track compliance, milestones, and status of projects related to conservation planning and environmental impact analysis. These records may include name, home or business address, home or business telephone number, home or business email address, organization affiliation, correspondent identification number, project number, and unique correspondence identification number for each correspondence record received. The correspondent identification number is a unique number in the database that can be used to query the correspondent's information.

RECORD SOURCE CATEGORIES:

Records in the PEPC System are obtained from DOI employees, contractors, and volunteers; other Federal, state, or local government agency employees, contractors, and volunteers; partners; tribes; members of the public; comments posted on regulations.gov; and other individuals involved with projects related to conservation planning and environmental impact analysis.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To officials of another Federal, state, local, or tribal agency to retrieve, review or analyze public comments for projects under their authority, which were received via the PEPC System.

P. To members of the public in order to provide copies or summaries of comments received on a project, and to provide information to the public as a report or verification of all correspondence received for a project, or as part of the process of reporting the public's concerns on a project and the NPS's response to those concerns.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Collection Act of 1966 (31 U.S.C. 3701(a)(3)).

POLICIES AND PRACTICES FOR STORAGE OF RECORDS:

Paper records are contained in file folders stored within filing cabinets. Electronic records are contained in computers, magnetic disks, computer tapes, removable drives, email, and electronic databases.

POLICIES AND PRACTICES FOR RETRIEVAL OF RECORDS:

The information may be retrieved by various fields including correspondent's name, project number, correspondence's identification number, correspondent's identification number, document identification number, park, organization type, affiliation, or correspondence receipt date.

POLICIES AND PRACTICES FOR RETENTION AND DISPOSAL OF RECORDS:

Records are retained in accordance with the National Park Service Records Schedule, Resource Management and Lands (Item 1C), which has been approved by NARA (Job No. N1-79-0801). The disposition of records with short-term operational value and not considered essential for ongoing management of land, cultural and natural resources is temporary, including account management records. These operational records are destroyed/deleted 15 years after closure. The disposition for routine housekeeping and supporting documentation is temporary and records are destroyed/deleted 3 years after closure.

Approved disposition methods for records include shredding or pulping paper records and erasing or degaussing electronic records in accordance with NARA guidelines and Departmental policy. Detailed disposition procedures and processes will be defined, implemented, and published to internal system administration staff within the PEPC technical reference manuals.

ADMINISTRATIVE, TECHNICAL, AND PHYSICAL SAFEGUARDS:

The records contained in this system are safeguarded in accordance with 43 CFR 2.226 and other applicable security rules and policies. Access to records in the PEPC System is limited to authorized personnel whose official duties require such access. Paper records are secured in file cabinets in areas which are locked during non-duty hours.

Computerized records systems follow the National Institute of Standards and Technology privacy and security standards as developed to comply with the Privacy Act of 1974, as amended, 5 U.S.C. 552a; Paperwork Reduction Act of 1995, 44 U.S.C. 3501et seq; Federal Information Security Modernization Act of 2014, 44 U.S.C. 3551 et seq; and the Federal Information Processing Standards 199: Standards for Security Categorization of Federal Information and Information Systems. Security controls include user identification, passwords, database permissions, encryption, firewalls, audit logs, network system security monitoring, and software controls.

Database tables are kept on separate file servers away from general file storage and other local area network usage. The data itself is stored in a password-protected, client-server database. Security measures establish access levels for different types of users.

Personnel authorized to access the system must complete all security, privacy, and records management training and sign the DOI Rules of Behavior. A Privacy Impact Assessment was conducted on the PEPC System to ensure that Privacy Act requirements are met, and appropriate privacy controls were implemented to safeguard the personally identifiable information contained in the system.

RECORD ACCESS PROCEDURES:

An individual requesting records on himself or herself should send a signed, written inquiry to the applicable System Manager identified above. The request must include the specific bureau or office that maintains the record to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the applicable System Manager as identified above. The request must include the specific bureau or office that maintains the record to facilitate location of the applicable records. A request for corrections or removal must meet the requirements of 43 CFR 2.246.

NOTIFICATION PROCEDURES:

An individual requesting notification of the existence of records on himself or herself should send a signed, written inquiry to the applicable System Manager as identified above. The request must include the specific bureau or office that maintains the record to facilitate location of the applicable records. The request envelope and letter should both be clearly marked “PRIVACY ACT INQUIRY.” A request for notification must meet the requirements of 43 CFR 2.235.

EXEMPTIONS PROMULGATED FOR THE SYSTEM:

None.

HISTORY:

79 FR 30641 (May 28, 2014), modification published at 86 FR 50156 (September 7, 2021).

Teri Barnett,
Departmental Privacy Officer, Department of the Interior.

[FR Doc. 2022-02294 Filed 2-2-22; 8:45 am]

BILLING CODE 4312-52-P